DEPARTMENT OF COMMERCE

National Oceanic and Atmospheric Administration

RIN 0648-XD805

Mid-Atlantic Fishery Management Council (MAFMC); Public Meetings

AGENCY: National Marine Fisheries Service (NMFS), National Oceanic and Atmospheric Administration (NOAA), Commerce.

ACTION: Notice of public meeting.

SUMMARY: The Mid-Atlantic Fishery Management Council's (Council) Ecosystem and Ocean Planning Committee will meet as a Committee of the Whole, to receive an overview from the Bureau of Ocean Energy Management (BOEM) about their geological and geophysical (G&G) permitting process in the Atlantic, focusing on regulations and the permitted activities for G&G surveys, and the development of possible comments.

DATES: The meeting will be held on Wednesday, March 25, 2015, from 1:30 p.m. to 3:30 p.m. EST, via Internet Webinar.

ADDRESSES: The meeting will be held via Internet Webinar. To join the Webinar, follow this link and enter the online meeting room: http://mafmc.adobeconnect.com/marchboem/.

Council address: Mid-Atlantic Fishery Management Council, 800 North State Street, Suite 201, Dover, DE 19901, telephone: (302) 674-2331.

FOR FURTHER INFORMATION CONTACT: Dr. Christopher M. Moore, Executive Director, Mid-Atlantic Fishery Management Council; telephone: (302) 526-5255.

SUPPLEMENTARY INFORMATION: BOEM will give a presentation to the Council's Ecosystem and Ocean Planning Committee, as a Committee Meeting of the Whole. This will include an overview of the geological and geophysical (G&G) permitting process in the Atlantic, focusing on regulations and the permitted activities for G&G surveys. BOEM will provide an overview of what is included in a complete permit and discuss the coordination process. The overview will also describe the National Environmental Policy Act and internal environmental review processes, discuss the related consultation and coordination process, and finally touch on mitigation and operations monitoring. BOEM will also give an overview of the development of the Five Year Outer Continental Shelf Oil and Gas Leasing Program for 2017-22. BOEM staff will be available to answer any questions following the presentation.

Special Accommodations

This meeting is accessible to people with disabilities. Requests for sign language interpretation or other auxiliary aid should be directed to Jan Saunders, (302) 526-5251, at least 5 days prior to the meeting date.

Dated: March 2, 2015.
Tracey L. Thompson,
Acting Deputy Director, Office of Sustainable Fisheries, National Marine Fisheries Service.

[FR Doc. 2015-05076 Filed 3-4-15; 8:45 am]

BILLING CODE 3510-22-P